DEPARTMENT OF TRANSPORTATION

Federal Highway Administration

[Docket No. FHWA-2023-0042]

Agency Information Collection Activities: Request for Comments for a New Information Collection

AGENCY: Federal Highway Administration (FHWA), DOT.

ACTION: Notice and request for comments.

SUMMARY: The FHWA invites public comments about our intention to request the Office of Management and Budget's (OMB) approval for an information collection, which is summarized below under SUPPLEMENTARY INFORMATION. We are required to publish this notice in the Federal Register by the Paperwork Reduction Act of 1995.

DATES: Please submit comments by December 26, 2023.

ADDRESSES: You may submit comments identified by DOT Docket ID Number 0042 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Kenneth Petty, Office of Planning (HEPP-1), 202-366-6654, and Spencer Stevens, Office of Planning (HEPP-20), 202-366-6221, Department of Transportation, Federal Highway Administration, Office of Civil Rights, 1200 New Jersey Avenue SE, Washington, DC 20590. Office hours are from 8 a.m. to 5 p.m., Monday through Friday, except Federal Holidays.

SUPPLEMENTARY INFORMATION:

Title: Survey of Metropolitan Planning Organizations and State Departments of Transportation Regarding Practices for Incorporating Equity and Meaningful Public Involvement in Transportation Planning and Project Decision-Making.

Background: The U.S. Department of Transportation (DOT, or “the Department”) is committed to pursuing a comprehensive approach to advancing equity for all. In support of the Department's Equity Action Plan (https://www.transportation.gov/priorities/equity/equity-action-plan), DOT is working to support transportation agencies in better addressing the needs of underserved communities.

One focus area for DOT relates to the Department's programmatic enforcement of Title VI of the Civil Rights Act (DOT Order 1000.12C), including emphasizing agency review of potentially-discriminatory plans, investment programs, and projects to prevent unlawful discrimination, and empower communities, including limited English proficient communities, in transportation decision-making (49 CFR 21.5, 21.7, 21.9 and 28 CFR part 406). DOT is also emphasizing the requirements of Section 504 of the Rehabilitation Act (28 CFR 35.104) and of the Americans with Disabilities Act (42 U.S.C. 12101 et seq.) for ensuring that transportation plans and investment programs do not discriminate on the basis of disability and provide equal opportunity and access for persons with disabilities.

In August of 2022, FHWA conducted a survey of all State departments of transportation (State DOTs) and metropolitan planning organizations (MPOs) to better understand how these agencies consider equity and comply with Title VI in transportation planning and programming activities (OMB Control Number 2125-0665). This survey included questions about how each State DOT or MPO uses quantitative data or tools to analyze equity factors for transportation plans and investment programs, as well as how each agency provides a meaningful and representative role to members of all communities, including underserved and limited English proficient communities, in shaping these plans and programs (28 CFR part 407). Information from the survey was used to help the Department form an understanding of the state of the practice related to equity and civil rights compliance and meaningful public involvement in transportation planning and programming, and to inform research products and capacity-building activities for State DOTs and MPOs, to help them improve practices.

FHWA plans to conduct follow-up annual surveys, beginning in 2024, to monitor the progress of State DOTs and MPOs in advancing their transportation planning equity and meaningful public involvement practices, and to identify ongoing research, training, and technical assistance needs. These surveys will cover similar topics as the 2022 survey, with reworded questions to reduce respondent burden and to align with updates to the Department's Equity Action Plan and other policies or guidance.

Survey responses may also inform future revisions to existing guidance, or the development of new guidance, to DOT funding recipients on meeting the requirements of title VI of the Civil Rights Act, the National Environmental Policy Act, section 504 of the Rehabilitation Act, the Americans with Disabilities Act, transportation planning and programming, or other legal or regulatory requirements that relate to transportation equity and public involvement.

FHWA plans to conduct the survey on a voluntary-response basis, utilizing an electronic survey platform. This is planned as an annual information collection, and FHWA estimates that the survey will take approximately one hour to complete. The survey will consist of both multiple-choice and short-answer question formats.

Respondents: 52 State DOTs and approximately 420 MPOs.

Frequency: Annually, beginning in 2024.

Estimated Average Burden per Response: Approximately 60 minutes per respondent.

Estimated Total Annual Burden Hours: Approximately 472 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued On: October 23, 2023.
Jazmyne Lewis,
Information Collection Officer.

[FR Doc. 2023-23694 Filed 10-26-23; 8:45 am]

BILLING CODE 4910-22-P